DEPARTMENT OF TRANSPORTATION

Research and Special Programs Administration

49 CFR Parts 171, 172, 173 and 175

[Docket No. RSPA-02-11654 (HM-228)]

RIN 2137-AD18

Hazardous Materials: Revision of Requirements for Carriage by Aircraft

AGENCY: Research and Special Programs Administration (RSPA), Department of Transportation (DOT).

ACTION: Notice of proposed rulemaking (NPRM); extension of comment period.

SUMMARY: RSPA is extending until March 18, 2005, the period for interested persons to submit comments on the November 10, 2004 notice of proposed rulemaking in response to a request by the Air Transport Association of America, Inc. (ATA). In the November 10, 2004 NPRM, we proposed to amend the requirements in the Hazardous Materials Regulations (HMR) for the transportation of hazardous materials by aircraft. The proposed changes include clarifying the applicability of part 175; excepting cargo aircraft from the quantity limits in § 175.75; reformatting the exceptions in § 175.10 into three sections based on applicability; and providing new separation distances for the shipment of radioactive materials by cargo aircraft. These changes are being proposed in order to clarify requirements to promote safer transportation practices; promote compliance and enforcement; eliminate unnecessary regulatory requirements; convert certain exemptions into regulations of general applicability; finalize outstanding petitions for rulemaking; facilitate international commerce; and make these requirements easier to understand.

DATES: Submit comments by March 18, 2005. To the extent possible, we will consider comments received after this date.

ADDRESSES: You may submit comments identified by any of the following methods:

Web Site: http://dms.dot.gov. Follow the instructions for submitting comments on the DOT electronic docket site.

Fax: 1-202-493-2251.

Mail: Docket Management System: U.S. Department of Transportation, 400 Seventh Street, SW., Nassif Building, Room PL-401, Washington, DC 20590-001.

Hand Delivery: To the Docket Management System; Room PL-401 on the plaza level of the Nassif Building, 400 Seventh Street, SW., Washington, DC between 9 a.m. and 5 p.m., Monday through Friday, except Federal holidays. http://www.Regulations.gov.

Instructions: You must include the agency name and docket number [RSPA-02-11654 (HM-228)] or the Regulatory Identification Number (RIN 2137-AD18) for this notice at the beginning of your comment. You should identify the docket number RSPA-02-11654 (HM-228) at the beginning of your comments. You should submit two copies of your comments, if you submit them by mail. If you wish to receive confirmation that RSPA received your comments, you should include a self-addressed stamped postcard. Internet users may submit comments at http://www.Regulations.gov and may access all comments received by DOT at http://dms.dot.gov. Note that all comments received will be posted without change to http://dms.dot.gov including any personal information provided. Please see the Privacy Act section of this rule.

Docket: You may view the public docket through the Internet at http://dms.dot.gov or in person at the Docket management System office at the above address.

FOR FURTHER INFORMATION CONTACT: Deborah Boothe, Office of Hazardous Materials Standards, (202) 366-8553, Research and Special Programs Administration, U.S. Department of Transportation, 400 Seventh Street, SW., Washington, DC 20590.

SUPPLEMENTARY INFORMATION:

I. Background

On November 10, 2004, the Research and Special Programs Administration (RSPA) published a notice of proposed rulemaking (NPRM) (69 FR 65294) under Docket RSPA-02-11654 (HM-228) to propose changes to the requirements in the Hazardous Materials Regulations (HMR) for the transportation of hazardous material by aircraft. The HMR (49 CFR parts 171-180) govern the transportation of hazardous materials in commerce by all modes of transportation, including aircraft (49 CFR 171.1(a)(1)). Parts 172 and 173 of the HMR include requirements for classification and packaging of hazardous materials, hazard communication, and training of employees who perform functions subject to the requirements in the HMR.

Part 175 contains additional requirements applicable to aircraft operators transporting hazardous materials aboard an aircraft, and authorizes passengers and crew members to carry hazardous materials on board an aircraft under certain conditions.

RSPA and the Federal Aviation Administration (FAA) are proposing changes to part 175 and other sections of the HMR applicable to transportation of hazardous materials by aircraft. These changes are being proposed in order to clarify requirements to promote safer transportation practices; promote compliance and enforcement; eliminate unnecessary regulatory requirements; convert certain exemptions into regulations of general applicability; finalize outstanding petitions for rulemaking; facilitate international commerce; and make these requirements easier to understand.

On November 19, 2004, the Air Transport Association (ATA) requested an extension of the comment period by an additional 90 days until April 29, 2005. ATA indicated the part 175 provisions are of particular significance to ATA carriers and the carriers will wish to submit detailed comments. ATA stated that the current comment period spans the Thanksgiving, Christmas and New Year holiday period, which is also the operational rush period for both passenger and cargo airlines. ATA also indicated that responsible persons at several key carriers have pre-existing commitments for early 2005 and that ATA will not be able to hold the relevant carrier discussions and prepare comments by January 31, 2005. We are willing to extend the comment period to provide ATA and others additional time to provide comments. However, we believe that an extension of 45 days should be sufficient to accommodate commenters' need for additional time.

Therefore, we are denying the request for extension of the comment period until April 29, 2005. Accordingly, the closing date of the comment period is extended to until March 18, 2005.

Issued in Washington, DC, on January 13, 2005 under the authority delegated in 49 CFR Part 106.
Robert A McGuire,
Associate Administrator for Hazardous Materials Safety.

[FR Doc. 05-1105 Filed 1-19-05; 8:45 am]

BILLING CODE 4910-60-P